POSTAL SERVICE

39 CFR Part 111

Service Barcode Required for Priority Mail Open and Distribute Container Address Labels

AGENCY: Postal Service™.

ACTION: Proposed rule.

SUMMARY: In this proposed rule the Postal Service provides new mailing standards to require the use of a concatenated UCC/EAN Code 128 Service barcode with a unique Service Type Code “55” on all Priority Mail® Open and Distribute container address labels. A proposed rule was published in the Federal Register on May 24, 2007 (Volume 72, Number 100, pages 29100-29101), requiring the use of a concatenated UCC/EAN Code 128 Delivery Confirmation service barcode. Although no comments were received in response to the proposed rule, because of the modification we have decided to publish a second proposed rule to solicit any new comments.

DATES: Submit comments on or May 5, 2008.

ADDRESSES: Mail or deliver written comments to the Manager, Mailing Standards, Postal Service, 475 L'Enfant Plaza, SW., Room 3436, Washington, DC 20260-3436. Copies of all written comments will be available for inspection and photocopying between 9 a.m. and 4 p.m., Monday through Friday, at the Postal Service Headquarters Library, 475 L'Enfant Plaza, SW., 11th Floor North, Washington, DC 20260-0004.

FOR FURTHER INFORMATION CONTACT: Cheryl DuBois at 202-268-3146 or Garry Rodriguez at 202-268-7281.

SUPPLEMENTARY INFORMATION:

Comments

There were no comments received on the May 24, 2007, proposed rule.

Background

Priority Mail Open and Distribute is designed to enhance the Postal Service's ability to provide mailers with expedited service to destination delivery units and other mail processing facilities. Mailers are currently provided an option to use Delivery Confirmation service to receive performance information and confirmation that their containers arrived at the destination facility, along with the date, ZIP Code™, and time their Priority Mail Open and Distribute containers are received at the destination facility.

Summary

In order to verify the arrival at the destination facility for all Priority Mail Open and Distribute containers, the Postal Service is requiring mailers to place a barcode on all Priority Mail Open and Distribute address labels. The barcode is required to be a concatenated UCC/EAN 128 Service barcode with a unique Service Type Code (STC) “55”. The text, “USPS SCAN ON ARRIVAL,” above the barcode is exclusive to this service and will assist in facilitating correct scan behavior.

The decision to require the use of the Service barcode instead of the Delivery Confirmation barcode will lessen any confusion as to the appropriate scans the barcode should receive and ensure the customer gets the appropriate performance information. This will provide better visibility to the customer and enable the USPS® to monitor service performance based on the product. We invite public comment on this change to the proposed rule.

The requirement is in accordance with instructions for barcode specifications, electronic file format and testing, and certification process, in Publication 91, Confirmation Services Technical Guide. An update is available in the April 10, 2008, Postal Bulletin.

Implementation

The required use of a Service barcode with Priority Mail Open and Distribute service will be implemented May 12, 2008.

We invite public comments on the following proposed revisions to Mailing Standards of the United States Postal Service, Domestic Mail Manual (DMM®), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

700 Special Standards

* * * * *

705 Advanced Preparation and Special Postage Payment Systems

* * * * *

16.0 Express Mail Open and Distribute and Priority Mail Open and Distribute

* * * * *

16.4 Additional Standards for Priority Mail Open and Distribute

* * * * *

16.4.2 Extra Services

[Revise the first sentence in the introductory text of 16.4.2 as follows:]

No extra services are available for Priority Mail Open and Distribute containers. * * *

* * * * *

16.5 Preparation

* * * * *

16.5.4 Tags 161 and 190—Priority Mail Open and Distribute

* * * * *

[Delete item c.]

* * * * *

16.5.6 Address Labels

[Revise the text in 16.5.6 as follows:]

In addition to Tag 157, Label 23, Tag 161, or Tag 190, USPS-supplied containers and envelopes and mailer-supplied containers used for Express Mail Open and Distribute or Priority Mail Open and Distribute must bear an address label that states “OPEN AND DISTRIBUTE AT:” followed by the facility name. Find the facility name and other information for addressing the labels, according to the type of facility, in 16.5.8 through 16.5.12.

* * * * *

[Replace 16.5.7, Delivery Confirmation Service, with new 16.5.7, Address Label Barcode Requirement, as follows:]

16.5.7 Address Label Service Barcode Requirement

An electronic Service barcode using the concatenated UCC/EAN Code 128 symbology must be incorporated in the address label. Mailers must prepare address labels using the formats in 16.5.8 through 16.5.12, including the service type code “55” to identify the service and the human-readable text “USPS SCAN ON ARRIVAL” above the barcode. USPS certification is required from the National Customer Support Center (NCSC) for each printer used to print barcoded open and distribute address labels, except for barcodes created using USPS Shipping Assistant. NCSC contact information, formatting specifications for barcodes and electronic files, and certification, are included in Publication 91, Confirmation Services Technical Guide. Mailers can use any of the following options available to create a label with a Service barcode for Priority Mail Open and Distribute address labels:

a. Select a service software developer from the list of companies that have met Postal Service specifications for the electronic file and barcode available at http://www.usps.com/shipping/shipsystems.htm.

b. Register and download the USPS Shipping Assistant desktop application available at http://www.usps.com/shippingassistant/.

c. Register and integrate the USPS Web Tools Application Program Interface (API) for Priority Mail Open and Distribute using your own developers, available at http://www.usps.com/webtools/.

d. Use Publication 91, Confirmation Services Technical Guide, for technical specifications and requirements.

16.5.8 DDU Address Labels

[Revise the second sentence in 16.5.8 as follows:]

* * * For the DDU address label, use the destination facility name, the street address, city, state, and ZIP+4 found in the Drop Entry Point View File available at USPS' FAST Web site: https://fast.usps.com. * * *

Exhibit 16.5.8 DDU Address Label

[Revise Exhibit 16.5.8 to replace the Delivery Confirmation barcode and human-readable text above and below, with a Service barcode and human-readable text.]

16.5.9 SCF Address Labels

[Revise the first sentence in 16.5.9 as follows:]

For the SCF address label, use SCF followed by the city, state, and ZIP Code found in the Drop Entry Point View File available at USPS' FAST Web site: https://fast.usps.com.* * *

Exhibit 16.5.9 SCF Address Label

[Revise Exhibit 16.5.9 to replace the Delivery Confirmation barcode and human-readable text above and below, with a Service barcode and human-readable text.]

16.5.10 ADC Address Labels

[Revise the first sentence in 16.5.10 as follows:]

For the ADC address label, use ADC followed by the city, state, and ZIP Code found in the Drop Entry Point View File available at USPS' FAST Web site: https://fast.usps.com. * * *

Exhibit 16.5.10 ADC Address Label

[Revise Exhibit 16.5.10 to replace the Delivery Confirmation barcode and human-readable text above and below, with a Service barcode and human-readable text.]

16.5.11 BMC Address Labels

[Revise the first sentence in 16.5.11 as follows:]

For the BMC address label, use BMC followed by the city, state, and ZIP Code found in the Drop Entry Point View File available at USPS' FAST Web site: https://fast.usps.com.* * *

Exhibit 16.5.11 BMC Address Label

[Revise Exhibit 16.5.11 to replace the Delivery Confirmation barcode and human-readable text above and below, with a Service barcode and human-readable text.]

[Renumber 16.5.12, Markings on Enclosed Mail, as 16.5.13. Add new 16.5.12, ASF Address Labels, and Exhibit 16.5.12, ASF Address Label, as follows:]

16.5.12 ASF Address Labels

For the ASF address label, use ASF followed by the city, state, and ZIP Code found in the Drop Entry Point View File under BMC available at USPS' FAST Web site: https://fast.usps.com. See Exhibit 16.5.12 for an example of an ASF address label.

Exhibit 16.5.12 ASF Address Label

[Add new Exhibit 16.5.12, as follows:]

* * * * *

We will publish an appropriate amendment to 39 CFR 111 to reflect these changes if the proposal is adopted.

Neva R. Watson,
Attorney, Legislative.

[FR Doc. E8-8228 Filed 4-18-08; 8:45 am]

BILLING CODE 7710-12-P